DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: August 10, 2015.
Roy E. Wright,
Deputy Associate Administrator for Insurance and Mitigation, Department of Homeland Security, Federal Emergency Management Agency.

State and county | Location and case No. | Chief executive officer of community | Community map repository | Effective date of modification | Community No.
Alabama:
Madison (FEMA Docket No.: B-1508) | City of Huntsville (15-04-0198P) | The Honorable Tommy Battle, Mayor, City of Huntsville, 308 Fountain Circle, Huntsville, AL 35801 | Engineering Department, 308 Fountain Circle, Huntsville, AL 35801 | Jul. 6, 2015 | 010153
Madison (FEMA Docket No.: B-1508) | Unincorporated areas of Madison County, (15-04-0198P) | The Honorable Dale W. Strong, Chairman, Madison County Commission, 100 Northside Square, Huntsville, AL 35801 | Madison County Engineering Building, 266-C Shields Road, Huntsville, AL 35811 | Jul. 6, 2015 | 010151
Montgomery (FEMA Docket No.: B-1514) | Town of Pike Road, (14-04-9699P) | The Honorable Gordon Stone, Mayor, Town of Pike Road, 9575 Vaughan Road, Pike Road, AL 36064 | Town Hall, 9575 Vaughan Road, Pike Road, AL 36064 | Jul. 10, 2015 | 010433
Montgomery (FEMA Docket No.: B-1514) | Unincorporated areas of Montgomery County, (14-04-9699P) | The Honorable Elton N. Dean, Sr., Chairman, Montgomery County Commission, P.O. Box 1667, Montgomery, AL 36102 | Montgomery County, Engineering Department, 100 South Lawrence Street, Montgomery, AL 36104 | Jul. 10, 2015 | 010278
Colorado:
Arapahoe (FEMA Docket No.: B-1514) | City of Aurora, (14-08-0918P) | The Honorable Steve Hogan, Mayor, City of Aurora, 15151 East Alameda Parkway, Aurora, CO 80012 | City Hall, 15151 East Alameda Parkway, Aurora, CO 80012 | Jul. 10, 2015 | 080002
Denver (FEMA Docket No.: B-1508) | City and County of Denver (15-08-0320P) | The Honorable Michael B. Hancock, Mayor, City and County of Denver, 1437 Bannock Street, Suite 350, Denver, CO 80202 | Department of Public Works, 201 West Colfax Avenue, Denver, CO 80202 | Jun. 19, 2015 | 080046
Denver (FEMA Docket No.: B-1508) | City and County of Denver (15-08-0321P) | The Honorable Michael B. Hancock, Mayor, City and County of Denver, 1437 Bannock Street, Suite 350, Denver, CO 80202 | Department of Public Works, 201 West Colfax Avenue, Denver, CO 80202 | Jun. 19, 2015 | 080046
La Plata (FEMA Docket No.: B-1514) | Unincorporated areas of La Plata County (14-08-1382P) | The Honorable Julie Westendorff, Chair, La Plata County Board of Commissioners, 1060 East 2nd Avenue, Durango, CO 81301 | La Plata County Administration Office, 1060 East 2nd Avenue, Durango, CO 81301 | Jul. 10, 2015 | 080097
Delaware: Kent (FEMA Docket No.: B-1509) | City of Dover (15-03-0103P) | The Honorable Robin R. Christiansen, Mayor, City of Dover, 15 Loockerman Plaza, Dover, DE 19901 | Department of Planning and Inspection, 15 Loockerman Plaza, Dover, DE 19901 | Jun. 26, 2015 | 100006
Florida:
Alachua (FEMA Docket No.: B-1508) | Unincorporated areas of Alachua County, (15-04-0356P) | The Honorable Lee Pinkoson, Chairman, Alachua County Board of Commissioners, P.O. Box 5547, Gainesville, FL 32627 | Alachua County Public Works Department, 5620 Northwest 120th Lane, Gainesville, FL 32653 | Jul. 3, 2015 | 120001
Charlotte (FEMA Docket No.: B-1508) | Unincorporated areas of Charlotte County (15-04-1137P) | The Honorable Bill Truex, Chairman, Charlotte County Board of Commissioners, 18500 Murdock Circle, Port Charlotte, FL 33948 | Charlotte County Community Development Department, 18500 Murdock Circle, Port Charlotte, FL 33948 | Jun. 19, 2015 | 120061
Collier (FEMA Docket No.: B-1514) | City of Marco Island (14-04-6846P) | The Honorable Lawrence Sacher, Chairman, City of Marco Island Council, 50 Bald Eagle Drive, Marco Island, FL 34145 | City Hall, 50 Bald Eagle Drive, Marco Island, FL 34145 | Jun. 19, 2015 | 120426
Collier (FEMA Docket No.: B-1508) | City of Marco Island (15-04-1069P) | The Honorable Lawrence Sacher, Chairman, City of Marco Island Council, 50 Bald Eagle Drive, Marco Island, FL 34145 | City Hall, 50 Bald Eagle Drive, Marco Island, FL 34145 | Jun. 19, 2015 | 120426
Manatee (FEMA Docket No.: B-1514) | City of Holmes Beach (15-04-1453P) | The Honorable Bob Johnson, Mayor, City of Holmes Beach, 5801 Marina Drive, Holmes Beach, FL 34217 | City Hall, 5801 Marina Drive, Holmes Beach, FL 34217 | Jun. 25, 2015 | 125114
Manatee (FEMA Docket No.: B-1514) | Unincorporated areas of Manatee County (15-04-1453P) | The Honorable Betsy Benac, Chair, Manatee County Board of Commissioners, P.O. Box 1000, Bradenton, FL 34206 | Manatee County Building and Development, Services Department, 1112 Manatee Avenue West, Bradenton, FL 34205 | Jun. 25, 2015 | 120153
Marion (FEMA Docket No.: B-1508) | City of Ocala (14-04-6358P) | The Honorable Kent Guinn, Mayor, City of Ocala, 110 Southeast Watula Avenue, Ocala, FL 34471 | Engineering Department, 405 Southeast Osceola Avenue, Ocala, FL 34478 | Jun. 25, 2015 | 120330
Miami-Dade (FEMA Docket No.: B-1514) | City of Sunny Isles Beach (15-04-0303P) | The Honorable George “Bud” Scholl, Mayor, City of Sunny Isles Beach, 18070 Collins Avenue, Sunny Isles Beach, FL 33160 | City Hall, 18070 Collins Avenue, Sunny Isles Beach, FL 33160 | Jul. 3, 2015 | 120688
Monroe (FEMA Docket No.: B-1514) | Unincorporated areas of Monroe County (15-04-1298P) | The Honorable Danny Kolhage, Mayor, Monroe County, 1100 Simonton Street, Key West, FL 33040 | Monroe County, Department of Planning and Environmental Resources, 2798 Overseas Highway, Marathon, FL 33050 | Jul. 10, 2015 | 125129
Pinellas (FEMA Docket No.: B-1508) | City of Clearwater (14-04-A506P) | The Honorable George N. Cretekos, Mayor, City of Clearwater, P.O. Box 4748, Clearwater, FL 33758 | Public Works Department, 100 South Myrtle Avenue, Suite 220, Clearwater, FL 33758 | Jun. 25, 2015 | 125096
Pinellas (FEMA Docket No.: B-1514) | City of Dunedin (14-04-A013P) | The Honorable Julie Ward Bojalski, Mayor, City of Dunedin, 542 Main Street, Dunedin, FL 34697 | Engineering Department, 542 Main Street, Dunedin, FL 34697 | Jul. 10, 2015 | 125103
Pinellas (FEMA Docket No.: B-1514) | City of Madeira Beach (14-04-8328P) | The Honorable Travis Palladeno, Mayor, City of Madeira Beach, 300 Municipal Drive, Madeira Beach, FL 33708 | Building Department, 300 Municipal Drive, Madeira Beach, FL 33708 | Jul. 3, 2015 | 125127
Seminole (FEMA Docket No.: B-1508) | City of Longwood (15-04-0949P) | The Honorable John Maingot, Mayor, City of Longwood, 175 West Warren Avenue, Longwood, FL 32750 | City Hall, 175 West Warren Avenue, Longwood, FL 32750 | Jun. 19, 2015 | 120292
Seminole (FEMA Docket No.: B-1514) | Unincorporated areas of Seminole County (14-04-AB49P) | The Honorable Bob Dallari, Chairman, Seminole County Board of Commissioners, 1101 East 1st Street, Sanford, FL 32771 | Seminole County Development Services Department, 1101 East 1st Street, Sanford, FL 32771 | Jul. 10, 2015 | 120289
Georgia: Columbia (FEMA Docket No.: B-1508) | Unincorporated areas of Columbia County (15-04-0305P) | The Honorable Ron Cross, Chairman, Columbia County Board of Commissioners, P.O. Box 498, Evans, GA 30809 | Columbia County Planning Services Division, 603 Ronald Reagan Drive, Building B, Evans, GA 30809 | Jun. 19, 2015 | 130059
Kentucky:
Kenton (FEMA Docket No.: B-1508) | City of Covington (15-04-2329P) | The Honorable Sherry Carran, Mayor, City of Covington, 20 West Pike Street, Covington, KY 41011 | City Hall, 20 West Pike Street, Covington, KY 41011 | Jun. 19, 2015 | 210129
Kentucky:
Kenton (FEMA Docket No.: B-1508) | City of Fort Wright (15-04-2329P) | The Honorable Joseph Nienaber, Jr., Mayor, City of Fort Wright, 409 Kyles Lane, Fort Wright, KY 41011 | City Hall, 409 Kyles Lane, Fort Wright, KY 41011 | Jun. 19, 2015 | 210249
Hardin (FEMA Docket No.: B-1514) | City of Elizabethtown (14-04-6996P) | The Honorable Edna Berger, Mayor, City of Elizabethtown, P.O. Box 550, Elizabethtown, KY 42702 | City Hall, 200 West Dixie Avenue, Elizabethtown, KY 42702 | Jul. 2, 2015 | 210095
New Mexico:
Santa Fe. (FEMA Docket No.: B-1509) | City of Santa Fe (15-06-0598P) | The Honorable Javier M. Gonzales, Mayor, City of Santa Fe, 200 Lincoln Avenue, Santa Fe, NM 87501 | City Hall, 200 Lincoln Avenue, Santa Fe, NM 87501 | Jun. 25, 2015 | 350070
Santa Fe. (FEMA Docket No.: B-1509) | The Unincorporated areas of Santa Fe County (15-06-0598P) | The Honorable Shannon Broderick Bulman, Santa Fe County Probate Judge, 102 Grant Avenue, Santa Fe, NM 87501 | Santa Fe County Public Works Department, 102 Grant Avenue, Santa Fe, NM 87501 | Jun. 25, 2015 | 350069
North Carolina:
Guilford (FEMA Docket No.: B-1514) | City of Greensboro (14-04-7717P) | The Honorable Nancy Vaughan, Mayor, City of Greensboro, P.O. Box 3136, Greensboro, NC 27402 | Central Library, 219 North Church Street, Greensboro, NC 27401 | Jul. 7, 2015 | 375351
Guilford (FEMA Docket No.: B-1514) | Unincorporated areas of Guilford County (14-04-7717P) | The Honorable Hank Henning, Chairman, Guilford County Board of Commissioners, P.O. Box 3427, Greensboro, NC 27402 | Independent Center, 400 West Market Street, Greensboro, NC 27402 | Jul. 7, 2015 | 370111
Haywood (FEMA Docket No.: B-1514) | Unincorporated areas of Haywood County (14-04-8009P) | The Honorable Mark S. Swanger, Chairman, Haywood County Board of Commissioners, 215 North Main Street, Waynesville, NC 28786 | Haywood County Planning Division, 157 Paragon Parkway, Suite 200, Clyde, NC 28721 | Jul. 16, 2015 | 370120
Wake (FEMA Docket No.: B-1508) | City of Raleigh (14-04-8341P) | The Honorable Nancy McFarlane, Mayor, City of Raleigh, P.O. Box 590, Raleigh, NC 27602 | Public Works Department, 222 West Hargett Street, Raleigh, NC 27601 | Jun 26, 2015 | 370243
Wake (FEMA Docket No.: B-1508) | Unincorporated areas of Wake County (14-04-8341P) | The Honorable James West, Chairman, Wake County Board of Commissioners, P.O. Box 550, Raleigh, NC 27602 | Wake County Environmental Services Department, 336 Fayetteville Street, Raleigh, NC 27602 | Jun 26, 2015 | 370368
Oklahoma: Tulsa (FEMA Docket No.: B-1509) | City of Broken Arrow (14-06-3286P) | The Honorable Craig Thurmond, Mayor, City of Broken Arrow, 220 South 1st Street, Broken Arrow, OK 74012 | City Hall, 220 South 1st Street, Broken Arrow, OK 74012 | Jun. 22, 2015 | 400236
Pennsylvania:
Berks (FEMA Docket No.: B-1509) | City of Reading (13-03-2114P) | The Honorable Vaughn D. Spencer, Mayor, City of Reading, 815 Washington Street, Reading, PA 19601 | Community Development Department, 815 Washington Street, Reading, PA 19601 | Jun. 26, 2015 | 420130
Berks (FEMA Docket No.: B-1509) | Township of Cumru (13-03-2114P) | The Honorable Jeanne E. Johnston, Manager, Township of Cumru, 1775 Welsh Road, Mohnton, PA 19540 | Township Office Building, 1775 Welsh Road, Mohnton, PA 19540 | Jun. 26, 2015 | 420130
Delaware (FEMA Docket No.: B-1516) | Township of Edgmont. (14-03-3292P) | The Honorable Ronald Gravina, Chairman, Township of Edgmont Board of Supervisors, 1000 Gradyville Road, Gradyville, PA 19039 | Township Municipal, Building, 1000 Gradyville Road, Gradyville, PA 19039 | Jul. 9, 2015 | 420414
South Carolina: Charleston (FEMA Docket No.: B-1508) | City of Charleston (15-04-0605P) | The Honorable Joseph P. Riley, Jr., Mayor, City of Charleston, P.O. Box 652, Charleston, SC 29402 | Engineering Department, 75 Calhoun Street Division 301, Charleston, SC 29402 | Jun. 19, 2015 | 455412
Texas:
Bell (FEMA Docket No.: B-1516) | City of Killeen (14-06-4047P) | The Honorable Scott Cosper, Mayor, City of Killeen, P.O. Box 1329, Killeen, TX 76540 | Building and Inspections Division, 100 East Avenue C, Killeen, TX 76541 | Jul. 9, 2015 | 480031
Collin (FEMA Docket No.: B-1516) | Unincorporated areas of Collin County (14-06-2017P) | The Honorable Keith Self, Collin County Judge, 2300 Bloomdale Road, Suite 4192, McKinney, TX 75071 | Collin County Engineering Department, 4690 Community Avenue, Suite 200, McKinney, TX 75071 | Jun. 4, 2015 | 480130
Denton (FEMA Docket No.: B-1509) | Unincorporated areas of Denton County (14-06-2414P) | The Honorable Mary Horn, Denton County Judge, 110 West Hickory Street, 2nd Floor, Denton, TX 76201 | Denton County Government Center, 1505 East McKinney Street, Suite 175, Denton, TX 76209 | Jun. 24, 2015 | 480774
Utah: Davis (FEMA Docket No.: B-1508) | City of Farmington (15-08-0034P) | The Honorable Jim Talbot, Mayor, City of Farmington, 160 South Main, Farmington, UT 84025 | GIS Department, 1600 South Main, Farmington, UT 84025 | Jun. 26, 2015 | 490044
West Virginia: Kanawha (FEMA Docket No.: B-1516) | Unincorporated areas of Kanawha County (15-03-0904P) | The Honorable W. Kent Carper, President, Kanawha County Commission, P.O. Box 3227, Charleston, WV 25336 | Kanawha County Annex Building, 407 Virginia Street East, Charleston, WV 25301 | Jul. 6, 2015 | 540070

[FR Doc. 2015-21738 Filed 9-1-15; 8:45 am]

BILLING CODE 9110-12-P